DEPARTMENT OF THE TREASURY

Bureau of Alcohol, Tobacco and Firearms

Proposed Collection; Comment Request

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Bureau of Alcohol, Tobacco and Firearms within the Department of the Treasury is soliciting comments concerning the Application For Permit Under 26 U.S.C. Chapter 52, Manufacturer of Tobacco Products Importer of Tobacco Products, or Proprietor of Export Warehouse and Application for Amended Permit Under 26 U.S.C. 5712, Manufacturer of Tobacco Products Importer of Tobacco Products, or Proprietor of Export Warehouse.

DATES: Written comments should be received on or before August 20, 2001 to be assured of consideration.

ADDRESSES: Direct all written comments to Bureau of Alcohol, Tobacco and Firearms, Linda Barnes, 650 Massachusetts Avenue, NW., Washington, DC 20720 (202) 927-8930.

FOR FURTHER INFORMATION CONTACT: Requests for additional information or copies of the form(s) and instructions should be directed to Robert Ruhf, Regulations Division, 650 Massachusetts Avenue, NW., Washington, DC 20226 (202) 927-8210.

SUPPLEMENTARY INFORMATION: Title: Application For Permit Under 26 U.S.C. Chapter 52, Manufacturer of Tobacco Products Importer of Tobacco Products, or Proprietor of Export Warehouse and Application For Amended Permit Under 26 U.S.C. 5712, Manufacturer of Tobacco Products Importer of Tobacco Products, or Proprietor of Export Warehouse.

OMB Number: 1512-0398.

Form Number: ATF F 2093 (5200.3), ATF F 2098 (5200.16), ATF F 5230.4, ATF F 5230.5.

Abstract: The forms are used by the tobacco industry members to obtain and amend permits necessary to engage in business as a manufacturer of tobacco products, importer of tobacco products, or proprietor of a export warehouse.

Current Actions: Item 5 on ATF F 5230.4 is a requirement for submission of corporate, partnership or association documents. Instruction 7. is new and coincides with the new requirement. The adjustment in burden hours is associated with an improved estimate for the number of respondents, especially for the applications submitted for importers of tobacco products.

Type of Review: Revision.

Affected Public: Business or other for-profit.

Estimated Number of Respondents: 630.

Estimated Time Per Respondent: 6 hours for all forms.

Estimated Total Annual Burden Hours: 1,130.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Dated: June 12, 2001.
William T. Earle,
Assistant Director (Management) CFO.

[FR Doc. 01-15495 Filed 6-19-01; 8:45 am]

BILLING CODE 4810-31-P